DEPARTMENT OF THE INTERIOR

Fish and Wildlife Service

50 CFR Part 22

[FWS-R9-MB-2011-N018; 91200-1231-9BPP]

RIN 1018-AX53

Migratory Birds; Draft Eagle Conservation Plan Guidance

AGENCY: Fish and Wildlife Service, Interior.

ACTION: Notice of availability.

SUMMARY: We, the U.S. Fish and Wildlife Service (Service), announce the availability for public comment of draft Eagle Conservation Plan Guidance. The Guidance provides recommendations for agency staff and developers to use an iterative process to avoid and minimize negative effects on eagles and their habitats resulting from the construction, operation and maintenance of land-based, wind energy facilities in the United States.

DATES: We must receive any comments or suggestions by the end of the day on May 19, 2011.

ADDRESSES: We have posted our draft Eagle Conservation Plan Guidance at http://www.fws.gov/windenergy. You may submit e-mail comments to windenergy@fws.gov. Please include “Eagle Conservation Plan Guidance Comments” in the subject line of the message, and your full name and return address in the body of your message. Please note that the e-mail address will be closed when the public comment period closes. Alternatively, you may submit comments or recommendations by mail to: Attention: Eagle Conservation Plan Guidance; Division of Migratory Bird Management; U.S. Fish and Wildlife Service; 4401 North Fairfax Drive, Mail Stop 4107; Arlington, VA 22203-1610.

FOR FURTHER INFORMATION CONTACT: Jerome Ford, 703-358-2583.

SUPPLEMENTARY INFORMATION: The Service is charged with implementing statutes including the Bald and Golden Eagle Protection Act (BGEPA), the Migratory Bird Treaty Act, and the Endangered Species Act. BGEPA prohibits all take of eagles unless otherwise authorized by the Service. A goal of BGEPA is to achieve and maintain stable or increasing populations of bald and golden eagles. The draft Eagle Conservation Plan Guidance (draft Guidance) interprets and clarifies the permit requirements in the regulations at 50 Code of Federal Regulations (CFR) 22.26 and 22.27, and does not impose any binding requirements beyond those specified in the regulations. The draft Guidance provides a means of compliance with BGEPA by providing recommendations for:

(1) Conducting early pre-construction assessments to identify important eagle use areas;

(2) Avoiding, minimizing, and/or compensating for potential adverse effects to eagles; and,

(3) Monitoring for impacts to eagles during construction and operation.

The draft Guidance calls for scientifically rigorous surveys, monitoring, risk assessment, and research designs proportionate to the risk to eagles. The draft Guidance describes a process by which wind energy developers can collect and analyze information that could lead to a programmatic permit to authorize unintentional take of eagles at wind energy facilities. The process described here is not required, but project proponents should coordinate closely with the Service concerning alternatives to insure that eagle conservation plans conform with requirements of BGEPA. The Service will initiate a peer review of the draft Guidance during the public comment period.

The development of facilities to generate electricity from wind turbines has increased dramatically in the range of the golden eagle in the western United States. Golden eagles are vulnerable to collisions with wind turbines. Because of this risk, many of the current and planned wind facilities require permits under the Bald and Golden Eagle Protection Act to legally authorize any take of eagles that may occur. We are soliciting comments and recommendations on our draft Eagle Conservation Plan Guidance.

We request comments and suggestions on the Guidance. We anticipate preparing further guidance to address incidental eagle takes under other circumstances. Explaining the reasons and rationale for your comments where appropriate will help as we consider them.

We will take into consideration the relevant comments, suggestions, or objections that we receive by the comment due date indicated above in the DATES section. These comments, suggestions, or objections, and any additional information received may lead us to adopt a final guidance that differs from this guidance.

Public Availability of Comments

Before including your address, phone number, e-mail address, or other personal identifying information in your comment, you should be aware that your entire comment—including your personal identifying information—may be made publicly available at any time. You can ask us in your comment to withhold your personal identifying information from public review, but we cannot guarantee that we will be able to do so.

As published elsewhere in today's Federal Register, the Service is simultaneously soliciting comments on the draft Land-based Wind Energy Guidelines.

Authority: The authorities for this notice are the Migratory Bird Treaty Act, 40 Stat. 755 (16 U.S.C. 703-712); Pub. L. 95-616, 92 Stat. 3112 (16 U.S.C. 712(2)); Pub. L. 106-108, 113 Stat. 1491, Note Following 16 U.S.C. 703; the Bald and Golden Eagle Protection Act (16 U.S.C. 668a-d), 704, 712, 742j-1, 1374(g), 1382, 1538(d), 1539, 1540(f), 3374, 4901-4916; 18 U.S.C. 42; 19 U.S.C. 1202; and 31 U.S.C. 9701.

Dated: January 31, 2011.
Rowan Gould,
Director, U.S. Fish and Wildlife Service.

[FR Doc. 2011-3700 Filed 2-17-11; 8:45 am]

BILLING CODE 4310-55-P